DEPARTMENT OF LABOR

Employment and Training Administration

[NAFTA—6385]

Ameriphone, Inc., a Wholly Owned Subsidiary of Plantronics, Inc., Garden Grove, CA; Notice of Negative Determination Regarding Application for Reconsideration

By application dated October 17, 2002, a petitioner requested administrative reconsideration of the Department's negative determination regarding eligibility to apply for North American Free Trade Agreement-Transitional Adjustment Assistance (NAFTA-TAA), applicable to workers and former workers of the subject firm. The denial notice was signed on September 11, 2002, and was published in the Federal Register on September 27, 2002 (67 FR 61160).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The NAFTA-TAA petition filed on behalf of workers at Ameriphone, Inc., a wholly owned subsidiary of Plantronics, Inc., Garden Grove, California engaged in activities related to administrative, technical, sales and distribution services in support of products for the hearing impaired and deaf communities was denied because the petitioning workers did not produce an article within the meaning of section 250 of the Trade Act, as amended.

The petitioner alleges that the subject firm workers were engaged in the final production phase. Specifically, the petitioner mentions inspection, testing and modification of products as the functions performed at the subject firm. These functions were performed on articles produced and sent from overseas to the subject firm.

With the exception of product modifications, none of the above functions constitute production in terms of eligibility for NAFTA-Transitional Adjustment Assistance, as they do not meet the eligibility of the Trade Act. Product modification accounted for a negligible portion of the work performed at the subject firm.

The petitioner also asserts that subject firm workers performed engineering functions, including prototype design and production.

Contact with the company revealed that prototype production was a rare and intermittent function that constituted a negligible percentage of work performed at the subject facility.

The petitioner alleges that the subject firm workers performed “article upgrades” on products that required new components.

Investigation into this matter, including contact with the company, revealed that any “upgrades” performed represented a negligible percentage of work performed at the subject facility.

Finally, the petitioner appears to allege that the subject firm workers are eligible because they served as a source of packaging, updated literature, fault reports and components added to the product that was shipped to their facility.

Investigation into this matter revealed that subject firm workers do not produce packaging or updated literature. Fault reports are not considered production in context with worker eligibility for NAFTA-TAA. Further, components were added either as part of repair work, or were intermittent and not significant enough to qualify subject firm worker functions as production.

Only in very limited instances are service workers certified for TAA, namely the worker separations must be caused by a reduced demand for their services from a parent or controlling firm or subdivision whose workers produce an article and who are currently under certification for NAFTA-TAA. In this case, no such certification exists.

In conclusion, the workers at the subject firm did not produce an article within the meaning of section 250(a) of the Trade Act of 1974, as amended.

Conclusion

After review of the application and investigative findings, I conclude that there has been no error or misinterpretation of the law or of the facts which would justify reconsideration of the Department of Labor's prior decision. Accordingly, the application is denied.

Signed at Washington, DC, this 10th day of March 2003.
Edward A. Tomchick,
Director, Division of Trade Adjustment Assistance.

[FR Doc. 03-6414 Filed 3-17-03; 8:45 am]

BILLING CODE 4510-30-P